DEPARTMENT OF ENERGY

Federal Energy Regulatory Commission

18 CFR Part 157

[Docket No. RM81-19-000]

Natural Gas Pipelines; Project Cost and Annual Limits

February 9, 2006.

agency: Federal Energy Regulatory Commission, DOE.

ACTION: Final rule.

SUMMARY: Pursuant to the authority delegated by 18 CFR 375.308(x)(1), the Director of the Office of Energy Projects (OEP) computes and publishes the project cost and annual limits for natural gas pipelines blanket construction certificates for each calendar year.

DATES: Effective Date: January 1, 2006.

FOR FURTHER INFORMATION CONTACT: Michael J. McGehee, Chief, Certificates Branch 1, Division of Pipeline Certificates, (202) 502-8962.

Publication of Project Cost Limits Under Blanket Certificates

Order of the Director, OEP

Section 157.208(d) of the Commission's Regulations provides for project cost limits applicable to construction, acquisition, operation and miscellaneous rearrangement of facilities (Table I) authorized under the blanket certificate procedure (Order No. 234, 19 FERC ¶ 61,216). Section 157.215(a) specifies the calendar year dollar limit which may be expended on underground storage testing and development (Table II) authorized under the blanket certificate. Section 157.208(d) requires that the “limits specified in Tables I and II shall be adjusted each calendar year to reflect the ‘GDP implicit price deflator’ published by the Department of Commerce for the previous calendar year.”

Pursuant to § 375.308(x)(1) of the Commission's Regulations, the authority for the publication of such cost limits, as adjusted for inflation, is delegated to the Director of the Office of Energy Projects. The cost limits for calendar year 2006, as published in Table I of § 157.208(d) and Table II of § 157.215(a), are hereby issued.

List of Subjects in 18 CFR Part 157

Administrative practice and procedure, Natural Gas, Reporting and recordkeeping requirements.

J. Mark Robinson,
Director, Office of Energy Projects.

Accordingly, 18 CFR part 157 is amended as follows:

PART 157—[AMENDED]

1. The authority citation for part 157 continues to read as follows:

Authority: 15 U.S.C. 717-717w, 3301-3432; 42 U.S.C. 7101-7352.

2. Table I in § 157.208(d) is revised to read as follows:

§ 157.208 Construction, acquisition, operation, replacement, and miscellaneous rearrangement of facilities.

* * * * *

(d) * * *

Table I
Year | Limit: Auto. proj. cost limit (Col. 1) | Limit: Prior notice proj. cost limit (Col. 2)
1982 | $4,200,000 | $12,000,000
1983 | 4,500,000 | 12,800,000
1984 | 4,700,000 | 13,300,000
1985 | 4,900,000 | 13,800,000
1986 | 5,100,000 | 14,300,000
1987 | 5,200,000 | 14,700,000
1988 | 5,400,000 | 15,100,000
1989 | 5,600,000 | 15,600,000
1990 | 5,800,000 | 16,000,000
1991 | 6,000,000 | 16,700,000
1992 | 6,200,000 | 17,300,000
1993 | 6,400,000 | 17,700,000
1994 | 6,600,000 | 18,100,000
1995 | 6,700,000 | 18,400,000
1996 | 6,900,000 | 18,800,000
1997 | 7,000,000 | 19,200,000
1998 | 7,100,000 | 19,600,000
1999 | 7,200,000 | 19,800,000
2000 | 7,300,000 | 20,200,000
2001 | 7,400,000 | 20,600,000
2002 | 7,500,000 | 21,000,000
2003 | 7,600,000 | 21,200,000
2004 | 7,800,000 | 21,600,000
2005 | 8,000,000 | 22,000,000
2006 | 8,200,000 | 22,700,000

* * * * *

3. Table II in § 157.215(a)(5) is revised to read as follows:

§ 157.215 Underground storage testing and development.

(a) * * *

(5) * * *

Table II
Year | Limit
1982 | $2,700,000
1983 | 2,900,000
1984 | 3,000,000
1985 | 3,100,000
1986 | 3,200,000
1987 | 3,300,000
1988 | 3,400,000
1989 | 3,500,000
1990 | 3,600,000
1991 | 3,800,000
1992 | 3,900,000
1993 | 4,000,000
1994 | 4,100,000
1995 | 4,200,000
1996 | 4,300,000
1997 | 4,400,000
1998 | 4,500,000
1999 | 4,550,000
2000 | 4,650,000
2001 | 4,750,000
2002 | 4,850,000
2003 | 4,900,000
2004 | 5,000,000
2005 | 5,100,000
2006 | 5,250,000

* * * * *

[FR Doc. 06-1435 Filed 2-15-06; 8:45 am]

BILLING CODE 6717-01-P